DEPARTMENT OF ENERGY

Federal Energy Regulatory Commission

Combined Notice of Filings

April 5, 2010.

Take notice that the Commission has received the following Natural Gas Pipeline Rate and Refund Report filings:

Docket Numbers: RP10-562-000.

Applicants: Wisconsin Electric Power Company, Wisconsin Gas LLC.

Description: Request of Wisconsin Electric Power Company and Wisconsin Gas LLC for Temporary Waiver and Expedited Action.

Filed Date: 04/01/2010.

Accession Number: 20100401-5093.

Comment Date: 5 p.m. Eastern Time on Friday, April 9, 2010.

Docket Numbers: RP10-563-000.

Applicants: Alliance Pipeline L.P.

Description: Alliance Pipeline L.P. submits tariff filing per 154.203: Baseline Filing to be effective 4/1/2010.

Filed Date: 04/01/2010.

Accession Number: 20100401-5101.

Comment Date: 5 p.m. Eastern Time on Tuesday, April 13, 2010.

Docket Numbers: RP10-564-000.

Applicants: Gulf South Pipeline Company, LP.

Description: Gulf South Pipeline Company, LP submits a capacity release agreement containing negotiated rate provisions.

Filed Date: 04/01/2010.

Accession Number: 20100401-0251.

Comment Date: 5 p.m. Eastern Time on Tuesday, April 13, 2010.

Docket Numbers: RP10-565-000.

Applicants: Gulf South Pipeline Company, LP.

Description: Gulf South Pipeline Company, LP submits a capacity release agreement containing negotiated rate provisions.

Filed Date: 04/01/2010.

Accession Number: 20100401-0250.

Comment Date: 5 p.m. Eastern Time on Tuesday, April 13, 2010.

Docket Numbers: RP10-566-000.

Applicants: Texas Gas Transmission, LLC.

Description: Texas Gas Transmission, LLC submits Second Revised Sheet 52 to FERC Gas Tariff, Third Revised Volume 1.

Filed Date: 04/01/2010.

Accession Number: 20100401-0249.

Comment Date: 5 p.m. Eastern Time on Tuesday, April 13, 2010.

Docket Numbers: RP10-567-000.

Applicants: CenterPoint Energy Gas Transmission Company.

Description: CenterPoint Energy Gas Transmission Company submits Tenth Revised Sheet No. 1 et al. to FERC Gas Tariff, Sixth Revised Volume No. 1.

Filed Date: 04/01/2010.

Accession Number: 20100401-0273.

Comment Date: 5 p.m. Eastern Time on Tuesday, April 13, 2010.

Docket Numbers: RP10-568-000.

Applicants: Transcontinental Gas Pipe Line Company, LLC.

Description: Transcontinental Gas Pipe Line Company, LLC submits negotiated rate agreement containing non-conforming provisions.

Filed Date: 04/01/2010.

Accession Number: 20100401-0268.

Comment Date: 5 p.m. Eastern Time on Tuesday, April 13, 2010.

Docket Numbers: RP10-570-000.

Applicants: ANR Pipeline Company.

Description: ANR Pipeline Company submits negotiated rate agreements.

Filed Date: 04/01/2010.

Accession Number: 20100401-0267.

Comment Date: 5 p.m. Eastern Time on Tuesday, April 13, 2010.

Docket Numbers: RP10-571-000.

Applicants: CenterPoint Energy Gas Transmission Company.

Description: CenterPoint Energy Gas Transmission Company submits negotiated rate agreements with Laclede Energy Resources, Inc., et al. to be effective 4/1/10.

Filed Date: 04/01/2010.

Accession Number: 20100402-0206.

Comment Date: 5 p.m. Eastern Time on Tuesday, April 13, 2010.

Docket Numbers: RP10-572-000.

Applicants: CenterPoint Energy Gas Transmission Company.

Description: CenterPoint Energy Gas Transmission Company submits the Amended and Restated Firm (Rate Schedule FT) Transportation Service Agreement.

Filed Date: 04/01/2010.

Accession Number: 20100402-0205.

Comment Date: 5 p.m. Eastern Time on Tuesday, April 13, 2010.

Docket Numbers: RP10-573-000.

Applicants: CenterPoint Energy Gas Transmission Company.

Description: CenterPoint Energy Gas Transmission Company submits new negotiated rate agreement to provide firm transportation services under Rate Schedule EFT to Southwestern Electric Power Company.

Filed Date: 04/01/2010.

Accession Number: 20100402-0204.

Comment Date: 5 p.m. Eastern Time on Tuesday, April 13, 2010.

Docket Numbers: RP10-574-000.

Applicants: CenterPoint Energy Gas Transmission Company.

Description: CenterPoint Energy Gas Transmission Company submits Third Revised Sheet 686 of its FERC Gas Tariff, Sixth Revised Volume 1, to be effective 4/1/2010.

Filed Date: 04/01/2010.

Accession Number: 20100402-0209.

Comment Date: 5 p.m. Eastern Time on Tuesday, April 13, 2010.

Docket Numbers: RP10-575-000.

Applicants: Columbia Gas Transmission Company.

Description: Columbia Gas Transmission Company submits First Sheet No. 187 et al. to FERC Gas Tariff, Second Revised Volume No. 1, to be effective 5/1/10.

Filed Date: 04/01/2010.

Accession Number: 20100402-0203.

Comment Date: 5 p.m. Eastern Time on Tuesday, April 13, 2010.

Docket Numbers: RP10-576-000.

Applicants: Columbia Gas Transmission, LLC.

Description: Columbia Gas Transmission, LLC submits Original Sheet No. 503.02 to FERC Gas Tariff, Third Revised Volume No. 1, to be effective 5/1/10.

Filed Date: 04/01/2010.

Accession Number: 20100402-0202.

Comment Date: 5 p.m. Eastern Time on Tuesday, April 13, 2010.

Docket Numbers: RP10-577-000.

Applicants: Columbia Gas Transmission, LLC.

Description: Columbia Gas Transmission, LLC submits First Revised Sheet 278 et al. to its FERC Gas Tariff, Third Revised Volume 1, to be effective 5/1/10.

Filed Date: 04/01/2010.

Accession Number: 20100402-0201.

Comment Date: 5 p.m. Eastern Time on Tuesday, April 13, 2010.

Docket Numbers: RP10-578-000.

Applicants: Gulf Crossing Pipeline Company, LLC.

Description: Gulf Crossing Pipeline Company, LLC submits amendment to a negotiated rate letter agreement executed by their customers in relation to the Gulf Crossing Project.

Filed Date: 04/02/2010.

Accession Number: 20100402-0212.

Comment Date: 5 p.m. Eastern Time on Wednesday, April 14, 2010.

Docket Numbers: RP10-579-000.

Applicants: CenterPoint Energy Gas Transmission Company.

Description: CenterPoint Energy Gas Transmission Company submits an amended Rate Schedule FT negotiated rate agreement with XTO Energy, Inc.

Filed Date: 04/02/2010.

Accession Number: 20100402-0213.

Comment Date: 5 p.m. Eastern Time on Wednesday, April 14, 2010.

Docket Numbers: RP10-580-000.

Applicants: Dauphin Island Gathering Partners.

Description: Dauphin Island Gathering Partners submits Fifty-Second Revised Sheet 9 et al. to FERC Gas Tariff, First Revised Volume 1, to be effective 4/3/10.

Filed Date: 04/02/2010.

Accession Number: 20100402-0225.

Comment Date: 5 p.m. Eastern Time on Wednesday, April 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-8606 Filed 4-14-10; 8:45 am]

BILLING CODE 6717-01-P